DEPARTMENT OF ENERGY

[OE Docket No. EA-384-B]

Application To Export Electric Energy; NRG Power Marketing LLC

AGENCY: Office of Electricity, Department of Energy.

ACTION: Notice of application.

SUMMARY: NRG Power Marketing LLC (Applicant or NRGPML) has applied for authorization to transmit electric energy from the United States to Mexico pursuant to the Federal Power Act.

DATES: Comments, protests, or motions to intervene must be submitted on or before September 14, 2022.

ADDRESSES: Comments, protests, motions to intervene, or requests for more information should be addressed by electronic mail to Electricity.Exports@hq.doe.gov, or by facsimile to (202) 586-8008.

FOR FURTHER INFORMATION CONTACT: Steven Blazek, 720-962-7265, steven.blazek@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (FPA) (16 U.S.C. 824a(e)).

On May 25, 2022, NRGPML filed an application with DOE (Application or App.) for “its blanket authority to transmit electric energy from the United States to Mexico.” App. at 1. NRGPML states that it “is a Delaware limited liability corporation with a principal place of business in Princeton, New Jersey,” adding that it “is a power marketer authorized by the Federal Energy Regulatory Commission (FERC) to make sales of electric power at wholesale in interstate commerce at market-based rates.” Id. NRGPML represents that it “does not own or control any electric power generation or transmission facilities and does not have a franchised electric power service area.” Id.

NRGPML further claims that it would “purchase the energy to be exported from wholesale generators, electric utilities, and federal power marketing agencies.” App. at 2. NRGPML contends that it “will purchase the energy to be exported from wholesale generators, electric utilities, and federal power marketing agencies. By definition, such energy is surplus to the system of the generator and thus, exportation of said energy will not impair the adequacy of electric power supply within the United States.” App. at 3.

NRGPML applied to renew the authorization granted in DOE Order No. EA-384-A, which expired on June 11, 2022.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the FERC Rules of Practice and Procedure (18 CFR 385.211). Any person desiring to become a party to this proceeding should file a motion to intervene at the above address in accordance with FERC Rule 214 (18 CFR 385.214).

Comments and other filings concerning NRGPML's application to export electric energy to Canada should be clearly marked with OE Docket No. EA-384-B. Additional copies are to be provided directly to Alan Johnson, Managing Director Regulatory Compliance, NRG Energy, Inc., 804 Carnegie Center, Princeton, NJ 08540, Alan.Johnson@nrg.com; and Michael A. Yuffee, Baker Botts LLP, 700 K Street NW, Washington, DC 20001, michael.yuffee@bakerbotts.com. A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Steven Blazek at Steven.Blazek@hq.doe.gov.

Signed in Washington, DC, on August 25, 2022.
Christopher Lawrence,
Management and Program Analyst, Electricity Delivery Division, Office of Electricity.

[FR Doc. 2022-18720 Filed 8-29-22; 8:45 am]

BILLING CODE 6450-01-P